DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 8, 2009. Address written comments to Statutory Import Programs Staff, Room 3720, U.S. Department of Commerce, Washington, D.C. 20230. Applications may be examined between 8:30 A.M. and 5:00 P.M. at the U.S. Department of Commerce in Room 3720.

Docket Number: 09-014. Applicant: Miami University, 500 E. High Street, Oxford, OH 45056. Instrument: Electron Microscope. Manufacturer: JEOL, Japan. Intended Use: The instrument will be used to characterize materials such as minerals, nano-materials, metals, ceramics, semiconductors, catalysts, and biological materials. This instrument provides improved resolution and contrast that will increase the types of samples that can be analyzed. Justification for Duty-Free Entry: No instrument of the same general category is manufactured within the United States. Application accepted by Commissioner of Customs: April 6, 2009.

Docket Number: 09-018. Applicant: Texas A & M University, College Station, TX 77843-4458. Instrument: Electron Microscope. Manufacturer: FEI Company, Czech Republic. Intended Use: The instrument will be used to perform ultrastructural analysis of a variety of animal cells and tissues involved in research investigations and for more limited diagnostic purposes. The materials to be investigated will be fixed and embedded animal tissues and cells. Justification for Duty-Free Entry: No instrument of the same general category is manufactured within the United States. Application accepted by Commissioner of Customs: April 27, 2009.

Docket Number: 09-020. Applicant: Columbia University, Department of Biochemistry, 650 W. 168th St., New York, NY 10032. Instrument: Electron Microscope. Manufacturer: FEI Company, the Netherlands. Intended Use: The instrument will be used study in cell-free in vitro systems, the structure and binding constellations of macromolecules and their ligands engaged in complex processes in the cell, such as translation, transcription, splicing, etc. Justification for Duty-Free Entry: No instrument of the same general category is manufactured within the United States. Application accepted by Commissioner of Customs: April 24, 2009.

Dated: May 13, 2009.
Christopher Cassel,
Acting Director, IA Subsidies Enforcement Office.

[FR Doc. E9-11676 Filed 5-18-09; 8:45 am]

BILLING CODE 3510-DS-S